GENERAL SERVICES ADMINISTRATION

[Notice-OGP-2014-01; Docket 2014-0002; Sequence 6]

GSA's Travel Data Challenge Competition

AGENCY: Office of Government-wide Policy, General Services Administration.

ACTION: Notice.

SUMMARY: The purpose of this notice is to announce a challenge competition hosted by GSA's Office of Government-wide Policy that will begin on February 14th, 2014. The competition will be open until April 11, 2014. The competition details can be viewed at www.challengepost.com on or after February 14th. The goal of this challenge is to ask the public to develop a smart technology solution that has the capability to provide agencies with key insights and recommendations for cost savings behaviors related to travel. GSA will challenge solvers to create a tool using sample GSA travel data that can then be replicated across Government to aid agencies in making smarter travel decisions. Furthermore, GSA will ask members of the public to provide recommendations for improvement in data collection.

DATES: February 18, 2014.

FOR FURTHER INFORMATION CONTACT: Ms. Katherine Pearlman at katherine.pearlman@gsa.gov or 202-738-2591.

SUPPLEMENTARY INFORMATION: The U.S. General Services Administration (GSA) manages a broad portfolio of key, government-wide operations and policies. In managing this portfolio, GSA has access to extensive government operations data—data which may hold potential solutions to some federal agencies' most pressing problems. GSA's Office of Government-wide Policy, sponsor of the Travel Data Challenge, is looking to bring a quantitative approach to the data the federal government collects in order to help agencies make smarter business decisions, and to allow them to drive greater saving and efficiencies. Pursuing this goal supports several of GSA's highest priorities in serving our partners, including delivering better value and savings, and leading with innovation.

In this GSA Travel Data Challenge, the public is asked to develop a technology-driven solution using GSA travel data that allows an agency to identify opportunities to reduce costs. As such, GSA challenges the public to create a tool using GSA travel data that could be replicated across government to every agency, using their own travel data. Sample data sets with GSA travel data will be provided. However, in order to solve the key purpose of this competition, challenge solvers should address how the tool can be replicated using travel data from other agencies. This tool is intended to show agencies where and how they can save money on federal travel. The tool is not intended to publicly display any agency's travel data and users will need to log in via a certified username and password to interact with the tool. One of the key purposes of the tool will be to provide agencies with visibility into their travel spending and recommendations for cost-savings behaviors. In addition, the tool will enhance internal transparency and hold agencies accountable for their spending—steps which help to save money for American taxpayers.

A second part of the GSA Travel Data Challenge asks the public to identify specific gaps in the travel data collected by the government, and to provide recommendations for how the government can improve insights into federal travel spending through additional data collection. The purpose for this information is to gain an understanding of what the government could do with additional data elements, if those data elements were to be collected by agencies. This will help increase awareness of needed improvements in data collection, and further the goal of leading greater transparency into government spending.

Details of Challenge

Design and create a digital interactive tool that utilizes federal travel data collected by GSA, in coordination with any other publicly available data sets. The technology tool should be innovative! GSA does not want an analysis tool that tells what is already known. This should be a forward-thinking tool that enhances transparency and helps to hold agencies accountable for what they are spending on travel, while also providing agencies with recommendations for how to reduce costs.

The tool should visually display data to provide meaningful insights that can help drive smarter travel decisions by federal employees. The ultimate goal is to help federal agencies drive cost saving behaviors in travel through easy to understand information. The tool should accomplish two tasks:

(1) Visually display data in a way that will show agencies how and where they are spending money on travel, and

(2) Through analysis of the data, show primary categories or cost drivers that can enable federal agencies to reduce and/or contain official travel costs compared to appropriate benchmarks (as determined through research as well as the sample data provided). Focus on attributes that consistently result in the travelers acquiring the lowest cost of a trip. Use this information to benchmark historical data against real time planning and provide action items to help travel managers monitor and improve traveler behaviors, resulting in greater travel savings through transparency. Finally, identify valuable insights that could be gained through improved data collection efforts.

Examples of Questions That Submissions to the GSA Travel Data Challenge Should Answer Include

Are travelers booking airline reservations far in advance to secure low cost airfare? How many days in advance are travelers booking their trips, taking into consideration industry standards and benchmarks? For example, is there a correlation between booking time and cost?

Are travelers utilizing travel services, such as FedRooms®?

Are travelers booking online?

With regard to data visibility issues, is key data being missed? Highlight where data is missing, e.g., where a traveler may have not used our existing systems, therefore, data is lacking.

What data elements are missing that could be valuable to an agency travel manager or chief financial officer?

How much could an agency save if they adjusted one or a set of cost-driving behaviors such as, time of year of travel, booking online, travel to certain cities during certain times, booking in advance?

Data

Challenge solvers will be provided with sample data sets to use in designing the tool. The tool should have the capability to be updated with data from additional agencies, making the tool scalable, dynamic, and configurable. Challenge solvers should not be limited to only the data provided. Be creative and use other public data sets that can give users a better understanding of their travel options. Document all data sources and explain why they are useful. Examples of additional resources include data.gov, City Pairs, per diem rates, and Fedrooms property lists. You are encouraged to conduct research in order to find other data sources that are publicly available.

Eligibility for Challenge

Eligibility to participate in the GSA Travel Data Challenge and win a prize is limited to entities/individuals that:

(1) Have agreed to the rules of the competition as explained in this posting. (2) Are either a private entity or individual, provided further that in the case of a private entity, it is incorporated in and maintains a primary place of business in the United States, and in the case of an individual, whether participating singly or in a group, is a citizen or permanent resident of the United States; and that the participant is not a federal entity or federal employee acting within the scope of employment. An individual or entity shall not be deemed ineligible because the individual or entity used federal facilities or consulted with federal employees during a competition if the facilities and employees are made available to all individuals and entities participating in the competition on an equitable basis.

Participants agree to assume any and all risks and waive claims against the Federal Government and its related entities, except in the case of willful misconduct, for any injury, death, damage, or loss of property, revenue, or profits, whether direct, indirect, or consequential, arising from participation in this competition, whether the injury, death, damage, or loss arose through negligence or otherwise. Participants also agree to obtain liability insurance or demonstrate financial responsibility, in an amount to cover a third party for death, bodily injury, property damage, or loss resulting from an activity carried out in connection with participation in this competition. Entrants are hereby advised that diligent care must be taken to avoid the appearance of Government endorsement of Entrant's competition participation and submission. Moreover, as is customary when doing business with the Federal Government, Entrant may not refer to GSA's use of your submission (be it product or service) in any commercial advertising or similar promotions in a manner that states or implies that the product or service being used is endorsed or preferred by GSA or any other element of the Federal Government, or that the Federal Government considers it to be superior to other products or services. The intent of this policy is to prevent the appearance of Federal Government bias toward any one product or service.

Entrant agrees that GSA's trademarks, logos, service marks, trade names, or the fact that GSA awarded a prize to Entrant, shall not be used by Entrant to imply direct GSA endorsement of Entrant or Entrant's submission. Both Entrant and GSA may list the other party's name in a publicly available customer or other list so long as the name is not displayed in a more prominent fashion than any other third party name.

Prizes

GSA may award up to three prizes but is not required to award all three prizes if the judges determine that only one or two entries meet the scope and requirements laid out for this challenge, or if the Agency plans to only use code from one or two entries. Funding for this GSA Travel Data Challenge award will come from the Office of Government-wide Policy's FY2014 Budget and will be made to winner(s) of the competition via electronic funds transfer, within 30 days of announcement of the winner(s).

The prizes may include three awards:

Grand Prize: $35,000.

Runner up: $30,000.

Honorable mention: $25,000.

Requirements

The final product should be a tool that is housed online and can be updated to include data sets from other agencies. Capabilities should also include updating data in the most efficient time cycle, such as monthly, quarterly, annually or as new information becomes available.

The final tool should be in Open Source Code. Open source refers to a program in which the source code is available to the general public for use and/or modification from its original design free of charge. In order to be Open Source Initiative Certified, the tool must meet following six criteria:

1. The author or holder of the license of the source code cannot collect royalties on the distribution of the program;

2. The distributed program must make the source code accessible to the user;

3. The author must allow modifications and derivations of the work under the program's original name;

4. No person, group, or field of endeavor can be denied access to the program;

5. The rights attached to the program must not depend on the program being part of a particular software distribution; and

6. The licensed software cannot place restrictions on other software that is distributed with it.

The winner(s) of the competition will, in consideration of the prize to be awarded, grant to GSA a perpetual, non-exclusive, royalty-free license to use any and all intellectual property to the winning entry for any governmental purpose, including the right to permit such use by any other agency or agencies of the Federal Government. All other rights of the winning entrant will be retained by the winner of the competition.

Scope

Any federal travel data and information that is publicly available is included in the scope of this challenge. Summary-level sample data will be provided.

Project Goals and Objectives
Goals | Objectives
Design a tool to aggregate, synthesize, and display GSA's travel data in a way that is easy to understand and will help drive cost-saving behaviors | —Utilize visual aids such as charts and graphs to display data. —Include capabilities for geospatial data visualization of data.
| —Create benchmarks and identify behaviors that can help to lower costs.
Allow for easy updates to the data | —As new data is collected later on by the Government, backend users must be easily able to update the dashboards to reflect these changes.
Allow for users to compare data to appropriate benchmarks, across agencies and within one agency | —Design an interactive dashboard with which users can filter to view data in the following ways: 1. All travel data for one agency across topic areas—cities traveled to, dates traveled, extent of stay, cost of trip, annual travel costs, monthly travel costs, etc.
| 2. All data for one topic area across agencies.
| 3. Agency data for one topic area as compared to other specific, mission-similar or size-similar agencies.
| 4. Agency data for one topic area as compared to Governmentwide trends.

Project Milestones/Deliverables
Date | Milestone/deliverable description
April 11, 2014 | Solver design due to GSA OGP.
May 9, 2014 | Winner(s) announced.
June 6, 2014 | Prize(s) Awarded.

Judging Criteria

Requirements

The solution must be an online, interactive tool that meets the goals and objectives provided in this document.

The solution must be in open source code.

The solution must include documentation of all data sources used.

The solution must include a description of how the tool can be updated with additional data from other agencies

The solver must provide recommendations to enhance Government insights through improvements in data collection.

Submissions Will Be Judged Based on the Following Metric
Criteria | Technical competence and capabilities | Use of data to provide effective outcomes | Creativity/innovation | Valuable information and insights regarding data
Description | The tool addresses the primary goal of the challenge. It is a finished product that can provide insightful analysis and show agencies how and where they are spending money on travel. The tool can provide recommendations for cost-savings behaviors. The tool can be easily updated with new data by the back-end user | The tool aggregates, synthesizes and displays travel data in a way that is easy to understand, visually appealing, and will help drive understanding of current trends as well as recommendations for future savings | The tool exceeds any internal capability that GSA has for analysis of travel data through its incorporation of creative design elements and innovative capabilities. | The solver provides recommendations for additional data elements to be collected by the Government. The solver identifies gaps in the data and utilizes external data sources and research to aid the government in setting future data collection policies
Weight | 50% | 20% | 10% | 20%.
Level 1 | Does not meet the goals and requirements of the challenge | Data is not used, or outcomes are off base. Unsuitable for use by the government | Lacks creativity and innovation | Information is not provided.
Level 2 | Meets few elements of the requirements of the challenge and goes a short way towards meeting the goal of the challenge | Meets few elements of the requirements of the challenge and goes a short way towards meeting the goal of the challenge | Shows little signs of creativity and innovation | Information is lacking real recommendations or insights.
Level 3 | Meets most of the requirements outlined in the challenge and contributes to the overall goal of the challenge | Uses some of the data provided by OGP, and/or other sources, but the outcomes presented through the data are not of a high quality | Is innovative or creative in at least one meaningful way | Information is useful and insightful in at least one meaningful way.
Level 4 | Meets all requirements outlined in the challenge, and provides substantial contribution to the goal of the challenge | Uses the data provided by OGP, as well as other sources of data to produce effective outcomes | Is extremely innovative and creative | Information is useful and provides the government with some suggestions for future improvement in data collection.
Level 5 | Solver product meets all requirements outlined in the challenge and provides additional, unique, useful capabilities that meet the overall goal of the challenge | Uses the data provided by OGP as well as additional, publicly-available data from a variety of sources to produce outstanding outcomes | Is extremely innovative and creative, leading to new insights and desirable outcomes | Information provided is extensive, well thought-out, valuable, and insightful.

Judges

There will be six judges, each a senior career official of GSA with expertise in government-wide policy, travel, information technology, and/or acquisition. Each judge will award a score to each submission and the winner(s) of the competition will be decided based on the highest average overall score. GSA will also have a technical advisor from Sabre, Inc who will assist the judges in evaluating the submissions as needed. However, the technical advisor will not vote in determining the prizes. Judges will only participate in judging submissions for which they do not have any conflicts of interest.

Judges are: Anne Rung, GSA Associate Administrator for Government-wide Policy—Craig Flynn, Director—Travel Policy Division, Office of Government-wide Policy—Kris Rowley, GSA Office of the Chief Information Officer—Tim Burke, GSA Federal Acquisition Service—Jon Bearscove, GSA FAS Region 10—Sonny Hashmi—Acting Chief Information Officer—GSA Technical Advisor: Sam Gilliland, Sabre Technologies.

Registration: Anyone intending to participate in the Travel Data Challenge can register by contacting Katherine Pearlman via katherine.pearlman@gsa.gov. Upon registration, you will be sent the sample data sets to use in solving the challenge.

Submission of Entries

Entries must be submitted online via ChallengePost by 11:59 p.m. EST on April 11th, 2014.

Dated: February 10, 2014.
Anne Rung,
Associate Administrator, Office of Government-wide Policy, General Services Administration.

[FR Doc. 2014-03191 Filed 2-14-14; 8:45 am]

BILLING CODE 6820-14-P